DEPARTMENT OF THE INTERIOR

National Park Service

Fire Management Plan, Draft Environmental Impact Statement, Grand Canyon National Park, AZ

AGENCY: National Park Service, Department of the Interior.

ACTION: Notice of Availability of the Draft Environmental Impact Statement for the Fire Management Plan, Grand Canyon National Park.

SUMMARY: Pursuant to the National Environmental Policy Act of 1969, 42 U.S.C. 4332(2)(C), the National Park Service announces the availability of a Draft Environmental Impact Statement for the Fire Management Plan for Grand Canyon National Park, Arizona. The document describes and analyzes the environmental impacts of several action alternatives including the preferred alternative for management of fire in Grand Canyon National Park. The preferred alternative analyzes the use of prescribed fire, wildland fire use, suppression fire and manual and mechanical thinning. A no action alternative was also evaluated.

DATES: The National Park Service will accept comments on the Draft Environmental Impact Statement from the public for 60 days after the date the Environmental Protection Agency publishes this Notice of Availability. Public meetings will occur at Kanab, Utah; Flagstaff and Tusayan, Arizona. Specific meeting locations and dates will be announced at a later time and available on the Web site identified below.

ADDRESSES: Information will be available for public review and comment online at http://parkplanning.nps.gov/grca, in the Office of the Superintendent, Steve Martin, P.O. Box 129, Grand Canyon, Arizona, 86023, 928-638-7945, or in the Office of Planning and Compliance, Mary Killeen, P.O. Box 129, Grand Canyon, Arizona, 86023, 928-638-7885.

FOR FURTHER INFORMATION CONTACT: Chris Marks, Project Lead Fire Management Plan, P.O. Box 129, Grand Canyon, Arizona, 86023, 928-606-1050, Christopher_marks@nps.gov.

SUPPLEMENTARY INFORMATION: If you wish to comment, you may submit your comments by any one of several methods. You may mail comments to the Office of the Superintendent, ATTN: FMP Comments, P.O. Box 129, Grand Canyon, Arizona 86023. You may also comment via the Internet at http://parkplanning.nps.gov/grca. Finally, you may hand deliver comments to Grand Canyon National Park at Park Headquarters, Office of Planning and Compliance, 1 Village Loop, Grand Canyon, Arizona 86023. Before including your address, phone number, e-mail address, or other personal identifying information in your comment, you should be aware that your entire comment—including personal identifying information—may be made publicly available at any time. While you can ask us in your comment to withhold your personal identifying information from public review, we cannot guarantee that we will be able to do so.

Dated: August 8, 2008.
Michael D. Snyder,
Regional Director, Intermountain Region, National Park Service.

[FR Doc. E8-24974 Filed 10-22-08; 8:45 am]

BILLING CODE 4312-ED-M